DEPARTMENT OF HEALTH AND HUMAN SERVICES

National Institutes of Health

Warren Grant Magnuson Clinical Center; Proposed Collection; Comment Request; Customer and Other Partners Satisfaction Surveys

Summary: In compliance with the requirement of section 3506(c)(2)(A) of the Paperwork Reduction Act of 1995 for the opportunity for pubic comment on the proposed data collection projects, the Warren Grant Magnuson Clinical Center (CC), the National Institutes of Health, (NIH) will publish periodic summaries of proposed projects to be submitted to the Office of Management and Budget (OMB) for review and approval.

Proposed Collection

Title: Customer and Other Partners Satisfaction Surveys. Type of Information Collection Request: New request/waiver. Need and Use of Information Collection: The information collected in these surveys will be used by Clinical Center personnel: (1) To evaluate the satisfaction of various Clinical Center customers and other partners with Clinical Center services; (2) to assist with the design of modifications of these services, based on customer input; (3) to develop new services, based on customer need; and (4) to evaluate the satisfaction of various Clinical Center customers and other partners with implemented service modifications. These surveys will almost certainly lead to quality improvement activities that will enhance and/or streamline the Clinical Center's operations. The major mechanisms by which the Clinical Center will request customer input is through surveys and focus groups. The surveys will be tailored specifically to each class of customer and to that class of customer's needs. Surveys will either be collected as written documents, as faxed documents, mailed electronically or collected by telephone from customers. Information gathered from these surveys of Clinical Center customers and other partners will be presented to, and used directly by, Clinical Center management to enhance the services and operations of our organization. Frequency of Response: The participants will respond yearly. Affected public: Individuals and households; businesses and other for profit, small businesses and organizations. Types of respondents: These surveys are designed to assess the satisfaction of the Clinical Center's major internal and external customers with the services provided. These customers include, but are not limited to, the following groups of individuals: Clinical Center patients, family members of Clinical Center patients, visitors to the Clinical Center, National Institutes of Health investigators, NIH intramural collaborators, private physicians or organizations who refer patients to the Clinical Center, volunteers, vendors and collaborating commercial enterprises, small businesses, regulators, and other organizations. The annual reporting burden is as follows:

Customer | Type of survey | Estimated number to be surveyed | Expected response rate (percent) | Time to complete survey (minutes) | Estimated burden hours
FY 2004
Clinical Center Patients | Questionnaire | 5000 | 50 | 30 | 1250
Family Members of Patients | Questionnaire | 3000 | 50 | 30 | 750
Visitors to the Clinical Center | Questionnaire | 1500 | 15 | 10 | 37.5
Clinical Center Employees | Questionnaire/Electronic | 2500 | 60 | 20 | 501
NIH Investigators | Questionnaire/Electronic | 2400 | 25 | 30 | 300
NIH Intramural Collaborators | Questionnaire/Electronic | 1500 | 30 | 15 | 112.5
Vendors and Collaborating Commercial Enterprises | Questionnaire | 2000 | 20 | 15 | 100
Professionals and Organizations Referring Patients | Questionnaire/Electronic | 1000 | 30 | 20 | 100.2
Regulators | Questionnaire/Electronic | 30 | 85 | 20 | 8.5
Volunteers | Questionnaire | 275 | 60 | 20 | 55.11
Total |  | 19,205 |  |  | 3215.01
FY 2005
Clinical Center Patients | Questionnaire/Electronic | 5000 | 50 | 30 | 1250
Family Members of Patients | Questionnaire/Electronic | 2000 | 50 | 30 | 500
Visitors to the Clinical Center | Questionnaire/Electronic | 1000 | 15 | 10 | 25
Clinical Center Employees | Questionnaire/Electronic | 2500 | 60 | 20 | 501
NIH Investigators | Questionnaire/Electronic | 2500 | 25 | 20 | 208.75
NIH Intramural Collaborators | Questionnaire/Electronic | 1000 | 30 | 10 | 50.1
Vendors and Collaborating Commercial Enterprises | Questionnaire/Electronic | 2500 | 20 | 15 | 125
Professionals and Organizations Referring Patients | Questionnaire/Electronic | 3000 | 30 | 20 | 300.6
Regulators | Questionnaire/Electronic | 25 | 80 | 15 | 5
Volunteers | Questionnaire/Electronic | 300 | 50 | 15 | 37.5
Total |  | 19,825 |  |  | 3002.95
FY 2006
Clinical Center Patients | Questionnaire/Electronic | 5000 | 60 | 30 | 1500
Family Members of Patients | Questionnaire/Electronic | 2000 | 40 | 30 | 400
Visitors to the Clinical Center | Questionnaire/Electronic | 1000 | 15 | 10 | 25.05
Clinical Center Employees | Questionnaire/Electronic | 2500 | 60 | 15 | 375
NIH Investigators | Questionnaire/Electronic | 2000 | 25 | 15 | 125
NIH Intramural Collaborators | Questionnaire/Electronic | 2000 | 30 | 10 | 100.2
Vendors and Collaborating Commercial Enterprises | Questionnaire/Electronic | 2500 | 15 | 20 | 125.25
Professionals and Organizations Referring Patients | Questionnaire/Electronic | 2000 | 30 | 20 | 200.4
Regulators | Questionnaire/Electronic | 30 | 85 | 205 | 8.5
Volunteers | Questionnaire/Electronic | 275 | 60 | 30 | 82.5
Total |  | 19,305 |  |  | 2,941.9

Estimated costs to the respondents consists of their time; time is estimated using a rate of $10.00 per hour for patients and the public; $30.00 for vendors, regulators, organizations and $55.00 for health care professionals. The estimated annual costs to respondents for each year for which the generic clearance is requested is $27,187.10 for 2004, $31,043 for 2005, and $24,693.70 for 2006. Estimated Capital Costs are $7,000. Estimated Operating and Maintenance costs are $73,000.

Requests for Comments

Written comments and/or suggestions from the public and affected agencies are invited on one or more of the following points: (1) Whether the proposed collection of information is necessary for the proper performance of the functions of the Clinical Center and the agency, including whether the information shall have practical utility; (2) the accuracy of the agency's estimate of the burden of the proposed collection of information, including the validity of the methodology and assumptions used; (3) ways to enhance the quality, utility, and clarity of the information to be collected; and (4) ways to minimize the burden of the collection of information on those who are to respond, including the use of automated, electronic, mechanical, or other technological collection techniques or other forms of information technology.

FOR FURTHER INFORMATION CONTACT: To request more information on the proposed project, or to obtain a copy of the data collection plans and instruments, contact: Dr. David K. Henderson, Deputy Director for Clinical Care, Warren G. Magnuson Clinical Center, National Institutes of Health, Building 10, Room 2C 146, 9000 Rockville Pike, Bethesda, Maryland 20892, or call non-toll free: 301-496-3515, or e-mail your request or comments, including your address to: dkh@nih.gov.

Comments Due Date

Comments regarding this information collection are best assured of having their full effect if received within 60 days of the date of this publication.

Dated: December 11, 2003.
David K. Henderson,
Deputy Director for Clinical Care, CC, National Institutes of Health.

[FR Doc. 03-31322 Filed 12-18-03; 8:45 am]

BILLING CODE 4140-10-P